DEPARTMENT OF ENERGY

Federal Energy Regulatory Commission

Combined Notice of Filings #2

Take notice that the Commission received the following electric rate filings:

Docket Numbers: ER12-2127-001.

Applicants: ITC Midwest LLC.

Description: ITC Midwest Compliance Filing to be effective 8/28/2012.

Filed Date: 9/5/12.

Accession Number: 20120905-5060.

Comments Due: 5 p.m. ET 9/26/12.

Docket Numbers: ER12-2312-001.

Applicants: Perigee Energy, LLC.

Description: Perigee Energy, LLC submits Amendment to Application for Market Based Authority.

Filed Date: 8/16/12.

Accession Number: 20120816-5053.

Comments Due: 5 p.m. ET 9/19/12.

Docket Numbers: ER12-2581-000.

Applicants: KATBRO LLC.

Description: KATBRO LLC, FERC Electric Tariff to be effective 10/15/2012.

Filed Date: 9/5/12.

Accession Number: 20120905-5036.

Comments Due: 5 p.m. ET 9/26/12.

Docket Numbers: ER12-2582-000.

Applicants: Midwest Independent Transmission System Operator, Inc.

Description: SA 2477 Corn Belt-MiAm GFA 477 to be effective 9/6/2012.

Filed Date: 9/5/12.

Accession Number: 20120905-5088.

Comments Due: 5 p.m. ET 9/26/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 5, 2012.
Nathaniel J. Davis, Sr.,
Deputy Secretary.

[FR Doc. 2012-22401 Filed 9-11-12; 8:45 am]

BILLING CODE 6717-01-P